DEPARTMENT OF THE INTERIOR

2 CFR Chapter XIV

25 CFR Chapters I, II, III and V, VI, VII

30 CFR Chapters II, IV, VII, and XII

36 CFR Chapter I

41 CFR Chapter 114

43 CFR Subtitle A and Chapters I and II

48 CFR Chapter 14

50 CFR Chapters I and IV

[Docket Number: DOI-2011-0001]

Reducing Regulatory Burden; Retrospective Review Under E.O. 13563

AGENCY: Office of the Secretary, Interior.

ACTION: Request for information.

SUMMARY: The Department of the Interior (DOI) is preparing a preliminary plan to review its existing significant regulations in response to the President's Executive Order 13563 on improving regulation and regulatory review. The purpose of this regulatory review is to help DOI manage the Nation's public lands and national treasures, honor our tribal trust obligations, protect the environment and endangered species, distribute and monitor water resources, and help America become energy independent in ways that are more effective and less burdensome. DOI is asking for ideas and information from the public in preparing the plan and identifying opportunities to improve any of its significant regulations by modifying, streamlining, expanding, or repealing them.

DATES: You must submit any comments on or before March 28, 2011.

ADDRESSES: All comments must include “Comments on improving DOI's regulations—Docket Number DOI-2011-0001”. You must submit comments by any (but only one) of the following methods:

• Federal eRulemaking portal: Go to http://www.regulations.gov, find Docket DOI-2011-0001, and follow the instructions for submitting your comments electronically.

• Mail: Regulatory Review, Office of the Executive Secretariat and Regulatory Affairs, Department of the Interior, 1849 C Street, NW., Mail Stop 7328, Washington, DC 20240.

• Hand Delivery or Courier: Regulatory Review, Office of the Executive Secretariat and Regulatory Affairs, Department of the Interior, Room 7311, 1849 C Street, NW., Washington, DC 20240.

• E-mail: RegsReview@ios.doi.gov.

FOR FURTHER INFORMATION CONTACT: Mark Lawyer, Office of the Secretary, 202-208-3181, Mark_Lawyer@ios.doi.gov.

SUPPLEMENTARY INFORMATION: President Obama issued Executive Order 13563, “Improving Regulation and Regulatory Review,” on January 18, 2011. He stated that our “regulatory system must protect public health, welfare, safety, and our environment while promoting economic growth, innovation, competitiveness, and job creation” and it must “use the best, most innovative, and least burdensome tools to achieve regulatory ends.” The Executive Order directed agencies to develop and submit a preliminary plan within 120 days that will explain how they will review existing significant regulations and identify regulations that can be made more effective or less burdensome in achieving regulatory objectives.

Request for Information

This request to the public for information is DOI's first step in complying with the President's directive to develop a plan that will make the Department's regulations more effective and less burdensome. DOI is asking you to suggest how the Department can develop regulations to protect the environment, honor our trust obligations, manage public lands, protect endangered species, distribute and monitor water resources, and promote clean energy independence in ways that will work best for the American people. Knowledge about the full effects of regulations on people and the economy is widely dispersed in society. DOI recognizes that members of the public are likely to have useful information and perspectives about how it could streamline or improve its regulations. This request for information from the public will help the Department obtain information that will inform its decisions as the Department develops a plan to review its existing regulations.

Questions for the Public

DOI intends the questions below to elicit useful information as the Department develops a preliminary plan to review its significant regulations. These questions are not intended to be exhaustive. You may raise other issues or make suggestions unrelated to these questions that you believe would help the Department develop better regulations. Comments will be most helpful if they provide examples and a detailed explanation of how the suggestion will support DOI's mission in a way that is more efficient and less burdensome. DOI specifically asks you to provide comments related to the questions that follow to help the Department prepare a preliminary plan to review its significant regulations.

(1) How can DOI best review its existing rules in a way that will identify rules that should be changed, streamlined, consolidated, or removed? DOI encourages those submitting comments to include a proposed process under which review could be regularly undertaken.

(2) How can DOI reduce burdens and maintain flexibility and choice for the public in a way that will promote its mission?

(3) Does DOI have rules or guidance that are duplicative or that have conflicting requirements among its bureaus or with other agencies? If so, please specifically identify the rules or guidance and suggest ways DOI can streamline, consolidate, or make these regulations work better. Please suggest specific language that would make these rules or guidance more efficient and less burdensome where possible.

(4) Are there rules or reporting requirements that could be improved to accomplish their regulatory objectives better? If so, please specifically identify the rule or reporting requirement and suggest alternative language where possible.

(5) How can DOI best assure that its regulations are guided by objective scientific evidence?

(6) Are there better ways to encourage public participation and an open exchange of views when DOI engages in rulemaking?

(7) Is there a rule or guidance that is working well that DOI could use as a model for improving other regulations or guidance? If so, please specifically identify the rule or guidance and explain the aspects of the rule or guidance that work well and why you think it works well.

(8) How can DOI better scale its regulations to lessen the burdens imposed on small entities within the existing statutory requirements? Please identify any regulations that, under the applicable laws, could exempt small entities or provide more flexible or less burdensome requirements.

(9) Are DOI regulations and guidance written in language that is clear and easy to understand? Please identify specific regulations and guidance that are good candidates for a plain language re-write.

(10) What are some suggestions that DOI can use to assure that its regulations promote its mission in ways that are most efficient and least burdensome?

DOI will consider public input as we develop a plan to periodically review the Department's significant rules. The Department has created a Web site at http//www.doi.gov/open/regsreview to facilitate participation by the public. This website provides links to the Department's regulations and a link to an e-mail in-box at RegsReview@ios.doi.gov that interested parties may use to suggest, both during the comment period and on an ongoing basis, improvements to DOI's regulations.

The Department is issuing this request solely to seek useful information as it develops a plan to review its existing significant regulations. While responses to this request do not bind DOI to any further actions related to the response, all submissions will be made available to the public on http://www.regulations.gov.

Before including your address, or other personal identifying information in your comment, you should be aware that your entire comment—including your personal identifying information—may be made publicly available at any time. While you can ask us in your comment to withhold your personal identifying information from the public review, we cannot guarantee that we will be able to do so.

Authority: E.O. 13653, 76 FR 3821, Jan. 21, 2011; E.O. 12866, 58 FR 51735, Oct. 4, 1993.

Dated: February 18, 2011.
David J. Hayes,
Deputy Secretary.

[FR Doc. 2011-4241 Filed 2-24-11; 8:45 am]

BILLING CODE 4310-10-P